DEPARTMENT OF COMMERCE

National Oceanic and Atmospheric Administration

RIN: 0648-XP48

Gulf of Mexico Fishery Management Council (Council); Public Meetings

AGENCY: National Marine Fisheries Service (NMFS), National Oceanic and Atmospheric Administration (NOAA), Commerce.

ACTION: Notice of public meetings.

SUMMARY: The Gulf of Mexico Fishery Management Council will convene public meetings.

DATES: The meetings will be held June 15 - 18, 2009.

ADDRESSES: The meetings will be held at the Quorum, 700 N. Westshore Blvd., Tampa, FL 33609.

Council address: Gulf of Mexico Fishery Management Council, 2203 North Lois Avenue, Suite 1100, Tampa, FL 33607.

FOR FURTHER INFORMATION CONTACT: Dr. Stephen Bortone, Executive Director, Gulf of Mexico Fishery Management Council; telephone: (813) 348-1630.

SUPPLEMENTARY INFORMATION:

Council

Wednesday, June 17, 2009

1 p.m., The Council meeting will begin with a review of the agenda and minutes.

From 1:15 p.m. - 5:30 p.m., the Council will receive public testimony on exempted fishing permits (EFPs), if any; Final Reef Fish Amendment 31, and the Council will hold an Open Public Comment Period regarding any fishery issue of concern. People wishing to speak before the Council should complete a public comment card prior to the comment period.

Thursday, June 18, 2009

From 8:30 a.m. - 12:15 p.m. and 1:30 p.m. - 2:30 p.m., the Council will review and discuss reports from the committee meetings as follows: Reef Fish Management; Outreach & Education; Budget/Personnel; Administrative Policy; Mackerel Management; Spiny Lobster Management; CLOSED SESSION SSC Selection; Data Collection; Sustainable Fisheries/Ecosystem; and SSC Selection.

From 2:30 p.m. - 3 p.m., they will discuss the Atlantic Sea Turtle Strategy.

From 3 p.m. - 3:30 p.m., Other Business items will follow. The Council will conclude its meeting at approximately 3:30 p.m.

Committees

Monday, June 15, 2009

12 p.m. - 1 p.m. - The Outreach & Education Committee will receive a Report from the O&E AP Meeting and an Update on Efforts to Provide Online Coverage of the Council Meetings.

1 p.m. - 2 p.m. - The Budget/Personnel Committee will review the 2009 Budget and the 5-year Budget. They will also discuss the Status of SSC Stipends and receive a Report of the Administrative Officer's Meeting.

2 p.m. - 2:30 p.m. - The Administrative Policy Committee will discuss Comments on the Proposed Rule on Council Operations.

2:30 p.m. - 3:30 p.m. - Mackerel Management Committee will discuss a Scoping Document for Joint Mackerel Amendment 18 and Select Scoping Meeting locations.

3:30 p.m. - 5 p.m. - The Data Collection Committee will discuss the Report of the GSMFC FIN Meeting, Discuss Status Report from the SEDAR Steering Committee Meeting and Listen to the Report on MRIP Program.

5 p.m. - 5:30 p.m. - CLOSED SESSION - The SSC Selection Committee will consider Appointment of SSC/SEP/SAP Members.

Tuesday, June 16, 2009

8:30 a.m. - 12 p.m. & 1:30 p.m. - 5:30 p.m. - The Reef Fish Management Committee will meet to discuss the Final Action on the Reef Fish Amendment 31/DEIS to Address Longline/Turtle Interactions; Receive a Presentation on Consultation Assessment - Draft Effects Analysis and Draft Loggerhead Population Assessment; discuss the Status of the Emergency Rule for Longlining; Discuss Initiating Action to Encompass all Remaining Reef Fish into and IFQ Program; Discuss the Gag/Red Grouper Update Assessment and Holding a SSC Workshop on Venting/Safe Release Methods; and Receive a Presentation on the Status of Goliath Grouper Research/Assessment Preparation.

5:30 p.m. - 6:30 p.m. - There will be an Informal Open Public Question and Answer Session.

Wednesday, June 17, 2009

8:30 a.m. - 11 a.m. - The Sustainable Fisheries/Ecosystem Committee will discuss the Scoping Document for Generic ACL/AM Amendment; Select Scoping Hearing Locations and receive a Report on the CRCP Meeting.

11 a.m. - 12 p.m. - The Spiny Lobster/Stone Crab Management Committee will discuss the Scoping Document for the Joint Spiny Lobster Amendment 9 and Select Scoping Meeting Locations.

Although other non-emergency issues not on the agendas may come before the Council and Committees for discussion, in accordance with the Magnuson-Stevens Fishery Conservation and Management Act (Magnsuon-Stevens Act), those issues may not be the subject of formal action during these meetings. Actions of the Council and Committees will be restricted to those issues specifically identified in the agendas and any issues arising after publication of this notice that require emergency action under Section 305(c) of the Magnuson-Stevens Act, provided the public has been notified of the Council's intent to take action to address the emergency. The established times for addressing items on the agenda may be adjusted as necessary to accommodate the timely completion of discussion relevant to the agenda items. In order to further allow for such adjustments and completion of all items on the agenda, the meeting may be extended from, or completed prior to the date/time established in this notice.

Special Accommodations

These meetings are physically accessible to people with disabilities. Requests for sign language interpretation or other auxiliary aids should be directed to Tina O'Hern at the Council (see ADDRESSES) at least 5 working days prior to the meeting.

Dated: May 22, 2009.
Tracey L. Thompson,
Acting Director, Office of Sustainable Fisheries, National Marine Fisheries Service.

[FR Doc. E9-12367 Filed 5-27-09; 8:45 am]

BILLING CODE 3510-22-S